DEPARTMENT OF THE TREASURY

Customs Service

Proposed Collection; Comment Request; Vessel Entrance or Clearance Statement Form

ACTION: Notice and request for comments.

SUMMARY: Customs published a document in the Federal Register on April 19, 2002, entitled “Proposed Collection; Comment Request; Master's Oath on Entry of Vessel in Foreign Trade”, inviting comment on an information collection requirement. The document contained many errors, including that the particular information collection on which comments were being sought, the Customs Form (CF) 1300, is no longer called the “Master's Oath on Entry of Vessel in Foreign Trade”. The CF 1300 is now called the “Vessel Entrance or Clearance Statement”. Accordingly, the document published on April 19, 2002, is withdrawn. This document, in which Customs invites the general public and other Federal agencies to comment on the information collection entitled “Vessel Entrance or Clearance Statement” replaces the April 19 document. This request for comment is being made pursuant to the Paperwork Reduction Act of 1995 (Public Law 104-13; 44 U.S.C. 3502(c)(2)).

DATES: Written comments should be received on or before July 5, 2002, to be assured of consideration.

ADDRESSES: Direct all written comments to U.S. Customs Service, Information Services Group, Attn.: Tracey Denning, 1300 Pennsylvania Avenue, NW, Room 3.2C, Washington, DC 20229.

FOR FURTHER INFORMATION CONTACT: Requests for additional information should be directed to U.S. Customs Service, Attn.: Tracey Denning, 1300 Pennsylvania Avenue NW, Room 3.2C, Washington, DC 20229, Tel. (202) 927-1429.

SUPPLEMENTARY INFORMATION:

Background

On April 19, 2002, Customs published a document in the Federal Register (67 FR 19477) inviting the public to comment on an information collection entitled the “Master's Oath on Entry of Vessel in Foreign Trade”. The document contained many errors, including that the particular information collection on which comments were being sought, the Customs Form (CF) 1300, is no longer called the “Master's Oath on Entry of Vessel in Foreign Trade”. The CF 1300 is now called “the Vessel Entrance or Clearance Statement”. This document replaces the April 19, 2002 document.

Request for Comments

Customs invites the general public and other Federal agencies to comment on proposed and/or continuing information collections pursuant to the Paperwork Reduction Act of 1995 (Pub. L. 104-13; 44 U.S.C. 3505(c)(2)). The comments should address: (1) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) estimates of capital or start-up costs and costs of operations, maintenance, and purchase of services to provide information. The comments that are submitted will be summarized and included in the Customs request for Office of Management and Budget (OMB) approval. All comments will become a matter of public record. In this document Customs is soliciting comments concerning the following information collection:

Title: Vessel Entrance or Clearance Statement Form.

OMB Number: 1515-0060.

Form Number: Customs Form 1300.

Abstract: This form is used by a master of a vessel to attest to the truthfulness of all other forms associated with the manifest.

Current Actions: There are no changes to the information collection. This submission is being submitted to extend the expiration date.

Type of Review: Extension (without change).

Affected Public: Businesses, individuals, institutions.

Estimated Number of Respondents: 12,000.

Estimated Time Per Respondent: 5 minutes.

Estimated Total Annual Burden Hours: 21,991.

Estimated Total Annualized Cost on the Public: $314,470.

Dated: April 29, 2002.
Tracey Denning,
Information Services Group.

[FR Doc. 02-11078 Filed 5-3-02; 8:45 am]

BILLING CODE 4820-02-P